DEPARTMENT OF ENERGY

Federal Energy Regulatory Commission

[Project No. 3451-001]

Notice of Intent To File License Application, Filing of Pre-Application Document, and Approving Use of the Traditional Licensing Process: Beaver Falls Municipal District

a. Type of Filing: Notice of Intent to File License Application and Request to Use the Traditional Licensing Process.

b. Project No.: 3451-001

c. Date Filed: February 12, 2019

d. Submitted By: Beaver Falls Municipal District

e. Name of Project: Townsend Water Power Project

f. Location: On the Beaver River, in the Borough of New Brighton, Beaver County, Pennsylvania. No federal lands are occupied by the project works or located within the project boundary.

g. Filed Pursuant to: 18 CFR 5.3 of the Commission's regulations.

h. Applicant Contacts: Roy Stintzi, Beaver Falls Municipal District, P.O. Box 400, Beaver Falls, Pennsylvania, 15010; Laura Cowan, Project Manager, Kleinschmidt Associates, 2 Thornton Hill, Ossining, New York, 10562, (717) 983-4056, Laura.Cowan@kleinschmidtgroup.com.

i. FERC Contact: Emily Carter at (202) 502-6512; or email at emily.carter@ferc.gov.

j. Beaver Falls Municipal District filed its request to use the Traditional Licensing Process on February 12, 2019. Beaver Falls Municipal District provided public notice of its request on February 11, 2019. In a letter dated April 11, 2019, the Director of the Division of Hydropower Licensing approved Beaver Falls Municipal District's request to use the Traditional Licensing Process.

k. With this notice, we are initiating informal consultation with the U.S. Fish and Wildlife Service under section 7 of the Endangered Species Act and the joint agency regulations thereunder at 50 CFR, part 402. We also are initiating consultation with the Pennsylvania State Historic Preservation Officer, as required by section 106, National Historic Preservation Act, and the implementing regulations of the Advisory Council on Historic Preservation at 36 CFR 800.2.

l. With this notice, we are designating Beaver Falls Municipal District as the Commission's non-federal representative for carrying out informal consultation pursuant to section 7 of the Endangered Species Act; and consultation pursuant to section 106 of the National Historic Preservation Act.

m. Beaver Falls Municipal District filed a Pre-Application Document (PAD; including a proposed process plan and schedule) with the Commission, pursuant to 18 CFR 5.6 of the Commission's regulations.

n. A copy of the PAD is available for review at the Commission in the Public Reference Room or may be viewed on the Commission's website (http://www.ferc.gov), using the eLibrary link. Enter the docket number, excluding the last three digits, in the docket number field to access the document. For assistance, contact FERC Online Support at ferconlineSupport@ferc.gov, (866) 208-3676 (toll free), or (202) 502-8659 (TTY). A copy is also available for inspection and reproduction at the address in paragraph h.

o. The licensee states its unequivocal intent to submit an application for a new license for Project No. 3451. Pursuant to 18 CFR 16.8, 16.9, and 16.10, each application for a new license and any competing license applications must be filed with the Commission at least 24 months prior to the expiration of the existing license. All applications for license for this project must be filed by July 31, 2022.

p. Register online at http://www.ferc.gov/docs-filing/esubscription.asp to be notified via email of new filings and issuances related to this or other pending projects. For assistance, contact FERC Online Support.

Dated: April 11, 2019.
Kimberly D. Bose,
Secretary.

[FR Doc. 2019-07743 Filed 4-17-19; 8:45 am]

BILLING CODE 6717-01-P